DEPARTMENT OF ENERGY

Extension of a Currently Approved Information Collection for the Weatherization Assistance Program

AGENCY: Office of Energy Efficiency and Renewable Energy, Department of Energy.

ACTION: Notice and request for comments.

SUMMARY: The Department of Energy (DOE), pursuant to the Paperwork Reduction Act of 1995, intends to extend for three years a currently approved collection of information with the Office of Management and Budget (OMB). The information collection request, Weatherization Assistance Program (WAP), was previously approved on May 31, 2020, under OMB Control No. 1910-5127 and its current expiration date is May 31, 2023. This ICR will include WAP Annual Appropriations and Weatherization Readiness Funds, Infrastructure Investment and Jobs Act (IIJA), and Multi-Family Buildings. This ICR makes updates to the WAP reporting metrics to ensure the requested information can be shared on an annual basis with Congress.

DATES: Comments regarding this collection must be received on or before October 25, 2022. If you anticipate difficulty in submitting comments within that period, contact the person listed below as soon as possible.

ADDRESSES: Written comments may be sent to Brittany Price by email to the following address: Brittany.Price@ee.doe.gov with the subject line “Weatherization Assistance Program (OMB No. 1910-5127)” included in the message. Submit electronic comments in WordPerfect, Microsoft Word, PDF, or ASCII file format, and avoid the use of special characters or any form of encryption. No telefacsimiles (faxes) will be accepted. For detailed instructions on submitting comments, see ADDRESSES section of this document.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact the DOE staff person listed in this notice.

FOR FURTHER INFORMATION CONTACT: Requests for additional information or copies of the information collection instrument and instructions should be directed to Brittany Price, EE-5W, U.S. Department of Energy, 1000 Independence Ave. SW, Washington, DC 20585-0121 or by email or phone at brittany.price@ee.doe.gov, (240) 306-7252.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This information collection request contains: (1) OMB No.: 1910-5127; (2) Information Collection Request Title: “Weatherization Assistance Program (WAP)”; (3) Type of Review: Extension of a Currently Approved Collection; (4) Purpose: To collect information on the status of grantee activities related to WAP Annual Appropriations/Weatherization Readiness Fund, IIJA, and the multifamily buildings expansion—including but not limited to weatherized units, total people assisted with grant funds; expenditures; and results, to ensure that program funds are being used appropriately, effectively and expeditiously. WAP Annual Appropriations and Weatherization Readiness Fund: On March 15, 2022, the President signed the Consolidated Appropriations Act of 2021, which appropriated $334,000,000 to the WAP, and included $15,000,000 to be made available to establish a Weatherization Readiness Fund. As noted in WPN 22-6, WAP Grantees will be required to report metrics related to the expenditure of these funds. Infrastructure Investments and Jobs Act (IIJA): In addition to the reporting documents for the WAP's annual appropriations, this collection also includes reporting for the $3.168 billion delivered by IIJA. IIJA was passed by Congress on November 6, 2021 “to authorize funds for Federal-aid highways, highway safety programs, and transit programs, and for other purposes.” The Weatherization Assistance Program is listed as an IIJA recipient under the Subtitle E—Miscellaneous section within Title V: Energy Efficiency and Building Infrastructure. Multifamily Buildings: The Consolidated Appropriations Act, 2021 amended Section 421 of the Energy Conservation and Production Act by inserting: “the number of multifamily buildings in which individual dwelling units were weatherized during the previous year, the number of individual dwelling units in multifamily buildings weatherized during the previous year,” after “the average size of the dwellings being weatherized.” (5) Annual Estimated Number of Respondents: 57; (6) Annual Estimated Number of Total Responses: 798; (8) Annual Estimated Number of Burden Hours: 7,752; (8) Annual Estimated Reporting and Recordkeeping Cost Burden: $366,824.64.

Statutory Authority: Title 42, chapter 81, subchapter III, part A of the United States Code (U.S.C.), (42 U.S.C. 6867(a)).

Signing Authority

This document of the Department of Energy was signed on August 12, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 23, 2022.
Treena V. Garrett,
Federal Register Liaison Officer, U.S. Department of Energy.

[FR Doc. 2022-18432 Filed 8-25-22; 8:45 am]

BILLING CODE 6450-01-P